DEPARTMENT OF COMMERCE

National Oceanic and Atmospheric Administration

RIN 0648-XC797

Mid-Atlantic Fishery Management Council (MAFMC); Public Meeting; Correction

AGENCY: National Marine Fisheries Service (NMFS), National Oceanic and Atmospheric Administration (NOAA), Commerce.

ACTION: Notice of correction to a public meeting.

SUMMARY: The Mid-Atlantic Fishery Management Council's (Council) Spiny Dogfish Advisory Panel (AP) will meet to develop a Fishery Performance Report for the Spiny Dogfish fishery in preparation for the Council and the Council's Scientific and Statistical Committee review of specifications that have been set for the 2014 fishing year.

DATES: The meeting will be held on Wednesday, August 28, 2013 at 1 a.m. until 4 p.m.

ADDRESSES: The meeting will be held via webinar with a listening station also available at the Council address below. Webinar link: http://mafmc.adobeconnect.com/dogfish/

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The original notice published in the Federal Register on August 8, 2013 (78 FR 48421). The original notice stated that the meeting ends at 12 noon. This notice corrects the time of the webinar. All other previously-published information remains unchanged.

The Advisory Panel will develop a Fishery Performance Report for consideration by the Council and the Council's SSC as they review spiny dogfish management measures established for the 2014 fishing year.

Special Accommodations

The meeting is physically accessible to people with disabilities. Requests for sign language interpretation or other auxiliary aids should be directed to M. Jan Saunders at the Mid-Atlantic Council Office, (302) 526-5251, at least 5 days prior to the meeting date.

Dated: August 16, 2013.
William D. Chappell,
Acting Deputy Director, Office of Sustainable Fisheries, National Marine Fisheries Service.

[FR Doc. 2013-20448 Filed 8-21-13; 8:45 am]

BILLING CODE 3510-22-P